DEPARTMENT OF COMMERCE

International Trade Administration

[A-533-843]

Certain Lined Paper Products From India: Initiation and Preliminary Results of Antidumping Duty Changed Circumstances Review

AGENCY: Enforcement and Compliance, International Trade Administration, Department of Commerce.

DATES: Effective Date: July 14, 2014.

SUMMARY: In response to a request from Kokuyo Riddhi Paper Products Private Limited (Kokuyo Riddhi), a producer/exporter of certain lined paper products (CLPP) from India, and pursuant to section 751(b) of the Tariff Act of 1930, as amended (the Act), 19 CFR 351.216 and 351.22l(c)(3)(ii), the Department of Commerce (the Department) is initiating a changed circumstances review (CCR) of the antidumping duty (AD) order on CLPP from India with regards to Kokuyo Riddhi. Based on the information received, we preliminarily determine that Kokuyo Riddhi is the successor-in-interest to Riddhi Enterprises (Riddhi) for purposes of determining AD liability. Interested parties are invited to comment on these preliminary results.

FOR FURTHER INFORMATION CONTACT: Cindy Robinson, AD/CVD Operations, Office III, Enforcement and Compliance, International Trade Administration, U.S. Department of Commerce, 14th Street and Constitution Avenue NW., Washington, DC 20230; telephone: (202) 482-3797.

SUPPLEMENTARY INFORMATION:

Background

On September 28, 2006, the Department published in the Federal Register the AD and countervailing duty orders on CLPP from India.¹ On May 14, 2014, Kokuyo Riddhi requested that the Department conduct a CCR under section 751(b)(1) of the Act and 19 CFR 351.216(b) to determine that it is the successor-in-interest to Riddhi,² and assign it the cash deposit rate of its predecessor, Riddhi. Kokuyo Riddhi based its request on the claim that it operates as the same business entity as Riddhi.³

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

² See id.

³ See CCR Request at 2, 7, and 11.

We received comments opposing Kokyuo Riddhi's request from the Petitioners.⁴

⁴ Petitioners are the Association of American School Paper Suppliers.

Scope of the Order

The merchandise covered by the CLPP Order is certain lined paper products, typically school supplies (for purposes of this scope definition, the actual use of or labeling these products as school supplies or non-school supplies is not a defining characteristic) composed of or including paper that incorporates straight horizontal and/or vertical lines on ten or more paper sheets (there shall be no minimum page requirement for looseleaf filler paper). The products are currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁵

⁵ For a complete description of the Scope of the Order, see the memorandum from Christian Marsh, Deputy Assistant Secretary for Antidumping and Countervailing Duty Operations, to Ronald K. Lorentzen, Acting Assistant Secretary for Enforcement and Compliance, “Decision Memorandum for Initiation and Preliminary Results of Changed Circumstances Review: Certain Lined Paper Products from India” (Initiation and Preliminary Decision Memorandum), dated concurrently with and hereby adopted by this notice.

Initiation and Issuance of Preliminary Results of Changed Circumstances Review

Pursuant to section 751(b)(1) of the Act and 19 CFR 351.216(d), the Department will conduct a CCR upon receipt of a request from an interested party or receipt of information concerning an AD order which shows changed circumstances sufficient to warrant a review of the order.

As noted above in the “Background” section, we received information indicating that Riddhi transferred its notebook business to Kokuyo Riddhi, a company incorporated on October 25, 2013. Kokuyo Riddhi, assumed all operations for the production and sale of the subject merchandise. The Department determines that the information submitted by Kokuyo Riddhi constitutes sufficient evidence to warrant a CCR of this order.⁶ Therefore, in accordance with section 751(b)(1) of the Act and 19 CFR 351.216(d), we are initiating a CCR based upon the information contained in Kokuyo Riddhi's submission.⁷

⁶ See 19 CFR 351.216(d).

⁷ See, generally, CCR Request.

19 CFR 351.221(c)(3)(ii) permits the Department to combine the notice of initiation of a CCR and the notice of preliminary results if the Department concludes that expedited action is warranted. In this instance, because we have the information necessary on the record to make a preliminary finding, we find that expedited action is warranted, and are combining the notice of initiation and the notice of preliminary results in accordance with 19 CFR 351.221(c)(3)(ii).⁸

⁸ See, e.g., Polyethylene Terephthalate Film, Sheet, and Strip From the Republic of Korea: Initiation and Preliminary Results of Antidumping Duty Changed Circumstances Review, 76 FR 27005 (May 10, 2011) (PET Film from Korea); Ball Bearings and Parts Thereof from Japan: Initiation and Preliminary Results of Changed-Circumstances Review, 71 FR 14679 (March 23, 2006); Fresh and Chilled Atlantic Salmon from Norway; Initiation and Preliminary Results of Changed Circumstances Antidumping Duty Administrative Review, 63 FR 50880 (September 23, 1998).

Methodology

In making a successor-in-interest determination, the Department examines several factors, including but not limited to, changes in: (1) Management; (2) production facilities; (3) supplier relationships; and (4) customer base.⁹ While no single factor or combination of these factors will necessarily provide a dispositive indication of a successor-in-interest relationship, the Department will generally consider the new company to be the successor to the previous company if the new company's resulting operation is essentially similar to that of its predecessor.¹⁰ Thus, if the evidence demonstrates that, with respect to the production and sale of the subject merchandise, the new company operates as the same business entity as the former predecessor company, the Department will afford the new company the same AD treatment as its predecessor, i.e., will assign the new company the same cash deposit rate of its predecessor.¹¹

⁹ See, e.g., Pressure Sensitive Plastic Tape from Italy: Preliminary Results of Antidumping Duty Changed Circumstances Review, 75 FR 8925 (February 26, 2010), unchanged in Pressure Sensitive Plastic Tape From Italy: Final Results of Antidumping Duty Changed Circumstances Review, 75 FR 27706 (May 18, 2010); Brake Rotors From the People's Republic of China: Final Results of Changed Circumstances Antidumping Duty Administrative Review, 70 FR 69941 (November 18, 2005), citing Brass Sheet and Strip from Canada: Final Results of Antidumping Duty Administrative Review, 57 FR 20460 (May 13, 1992); and Structural Steel Beams from Korea: Preliminary Results of Changed Circumstances Antidumping Duty Administrative Review, 66 FR 15834 (March 21, 2001).

¹⁰ See e.g., PET Film from Korea, 76 FR at 27006; Industrial Phosphoric Acid from Israel: Final Results of Antidumping Duty Changed Circumstances Review, 59 FR 6944, 6945 (February 14, 1994); Brass Sheet and Strip from Canada: Final Results of Antidumping Duty Administrative Review, 57 FR 20460 (May 13, 1992) at Comments 1 and 2.

¹¹ See Fresh and Chilled Atlantic Salmon From Norway; Final Results of Changed Circumstances Antidumping Duty Administrative Review, 64 FR 9979, 9980 (March 1, 1999).

For a full description of the methodology underlying our conclusions, see Preliminary Decision Memorandum.¹²

¹² See Initiation and Preliminary Decision Memorandum.

The Preliminary Decision Memorandum is on file electronically via Enforcement and Compliance's Antidumping and Countervailing Duty Centralized Electronic Service System (IA ACCESS). IA ACCESS is available to registered users at http://iaaccess.trade.gov and in the Central Records Unit (CRU), room 7046 of the main Department of Commerce building. In addition, a complete version of the Preliminary Decision Memorandum can be accessed directly on the Internet at http://enforcement.trade.gov/frn/index.html. The signed and the electronic versions of the Preliminary Decision Memorandum are identical in content.

Preliminary Results of the Changed Circumstances Review

Based on the evidence reviewed, we preliminarily determine that Kokuyo Riddhi is the successor-in-interest to Riddhi. Specifically, we find that the change of the notebook business as a result of the transfer from Riddhi to Kokuyo Riddhi resulted in no significant changes to management, production facilities, supplier relationships, and customers with respect to the production and sale of the subject merchandise. Thus, Kokuyo Riddhi operates essentially as the same business entity as Riddhi with respect to the subject merchandise.

If the Department upholds these preliminary results in the final results, Kokuyo Riddhi will retain the AD deposit rate currently assigned to Riddhi with respect to the subject merchandise (i.e., zero percent cash deposit rate). If these preliminary results are adopted in the final results of this CCR, we will instruct Customs and Border Protection (CBP) to suspend liquidation of entries of CLPP made by Kokuyo Riddhi, effective on the publication date of the final results, at the cash deposit rate that is currently assigned to Riddhi (i.e., zero percent ad valorem).¹³

¹³ See Certain Lined Paper Products from India: Final Results of Antidumping Duty Administrative Review; 2010-2011, 78 FR 22232 (April 15, 2013).

Public Comment

Interested parties may submit case briefs and/or written comments not later than 30 days after the date of publication of this notice.¹⁴ Rebuttal briefs, limited to issues raised in the case briefs, may be filed no later than five days after the deadline for filing case briefs.¹⁵ Parties who submit case or rebuttal briefs are encouraged to submit with each argument: (1) A statement of the issue; (2) a brief summary of the argument; and (3) a table of authorities. All comments are to be filed electronically using IA ACCESS, and must also be served on interested parties.¹⁶ An electronically filed document must be received successfully in its entirety by IA ACCESS by 5:00 p.m. Eastern Standard Time on the day it is due.¹⁷

¹⁴ See 19 CFR 351.309(c)(2).

¹⁵ See 19 CFR 351.309(d).

¹⁶ See 19 CFR 351.303(b) and (f).

¹⁷ See 19 CFR 351.303(b).

Interested parties who wish to request a hearing, or to participate if one is requested, must submit a written request to the Assistant Secretary for Enforcement and Compliance, filed electronically via IA ACCESS, within 30 days after the date of publication of this notice.¹⁸ Requests should contain the party's name, address, and telephone number, the number of participants, and a list of the issues to be discussed. Oral presentations will be limited to issues raised in the briefs. If a request for a hearing is made, we will inform parties of the scheduled date for the hearing which will be held at the U.S. Department of Commerce, 14th Street and Constitution Avenue NW., Washington, DC 20230, at a time and location to be determined.¹⁹ Parties should confirm by telephone the date, time, and location of the hearing.

¹⁸ See 19 CFR 351.310(c).

¹⁹ See 19 CFR 351.310.

Consistent with 19 CFR 351.216(e), we will issue the final results of this CCR no later than 270 days after the date on which this review was initiated, or within 45 days if all parties agree to our preliminary finding.

We are issuing and publishing this finding and notice in accordance with sections 751(b)(l) and 777(i)(l) of the Act and 19 CFR 351.216 and 351.221(c)(3)(ii).

Dated: July 3, 2014.
Ronald K. Lorentzen,
Acting Assistant Secretary for Enforcement and Compliance.

[FR Doc. 2014-16285 Filed 7-11-14; 8:45 am]

BILLING CODE 3510-DS-P